DEPARTMENT OF THE TREASURY

Alcohol and Tobacco Tax and Trade Bureau

Proposed Information Collection; Comment Request; Correction

AGENCY: Alcohol and Tobacco Tax and Trade Bureau (TTB), Treasury.

ACTION: Notice and request for comments; correction.

SUMMARY: On May 19, 2005, TTB published a notice in the Federal Register inviting comments on an information collection related to marks on wine containers. In that notice, we inadvertently included a second information collection related to the certification of proper cellar treatment for imported natural wine. This document corrects that error.

FOR FURTHER INFORMATION CONTACT: Mary A. Wood, Alcohol and Tobacco Tax and Trade Bureau, P.O. Box 14412, Washington, DC 20044-4412; or telephone 202-927-8210.

SUPPLEMENTARY INFORMATION: On May 19, 2005, TTB published a notice in the Federal Register entitled “Proposed Information Collection; Comment Request” (70 FR 28982) inviting comments on two information collections—the first titled “Marks on Wine Containers” (OMB No. 1513-0092) and the second titled “Certification of Proper Cellar Treatment for Imported Natural Wine” (OMB No. 1513-0119). We inadvertently included the second information collection related to the certification of imported wine in that notice.

We will, in the near future, publish a temporary rule and request for comment regarding the certification of proper cellar treatment for imported natural wine. This temporary rule will include a request for comments on the information collection related to the certification requirement for imported wine brought into the United States after December 31, 2004. This certification requirement was imposed by section 2002 of the Miscellaneous Trade and Technical Corrections Act of 2004 (Pub. L. 109-429).

Therefore, in the Federal Register of May 19, 2005, on page 28983, in the second column, remove the text from the beginning of the sixth full paragraph (“Title: Certification of Proper Cellar Treatment for Imported Natural Wine.”) to the end of the fourteenth paragraph (“Estimated Total Annual Burden Hours: 5,000.”).

Dated: June 1, 2005.
William H. Foster,
Chief, Regulations and Procedures Division.

[FR Doc. 05-11342 Filed 6-7-05; 8:45 am]

BILLING CODE 4810-31-P